FEDERAL COMMUNICATIONS COMMISSION

Notice of Public Information Collection(s) Being Reviewed by the Federal Communications Commission, Comments Requested

January 11, 2011.

SUMMARY: The Federal Communications Commission, as part of its continuing effort to reduce paperwork burden invites the general public and other Federal agencies to take this opportunity to comment on the following information collection(s), as required by the Paperwork Reduction Act (PRA) of 1995, 44 U.S.C. 3501-3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before March 22, 2011. If you anticipate that you will be submitting PRA comments, but find it difficult to do so within the period of time allowed by this notice, you should advise the FCC contact listed below as soon as possible.

ADDRESSES: Direct all PRA comments to Cathy Williams, Federal Communications Commission, via e-mail to PRA@fcc.gov and Cathy.Williams@fcc.gov.

FOR FURTHER INFORMATION CONTACT: For further information on this collection contact Cathy Williams on (202) 418-2918.

SUPPLEMENTARY INFORMATION:

OMB Control Number: 3060-xxxx.

Title: Satellite Digital Audio Radio Service (SDARS).

Form No.: Not applicable.

Type of Review: New information collection.

Respondents: Business and other for-profit.

Number of Respondents/Responses: 1 respondent; 74 responses.

Estimated Time per Response: 4-12 hours per response.

Frequency of Response: On occasion reporting requirement; recordkeeping requirement: Third party disclosure requirement.

Obligation to Respond: Required to obtain or retain benefits. The statutory authority for this collection is contained in Sections 47 U.S.C. 701-744; Sections 4, 301, 302, 303, 307, 309, and 332 of the Communications Act, as amended, 47 U.S.C. 154, 301, 302a, 303, 307, 309, and 332.

Total Annual Burden: 400 hours.

Annual Cost Burden: $175,020.

Privacy Act Impact Assessment: No impact(s).

Nature and Extent of Confidentiality: In general, there is no need for confidentiality with this collection of information.

Needs and Uses: The Federal Communications Commission (“Commission”) is requesting approval from the Office of Management and Budget (OMB) to establish a new information collection titled, “Satellite Digital Audio Radio Service (SDARS), Rule Sections: 25.144(e)(3), (e)(8), (e)(9); 25.263(b), (c).”

The Commission released a Second Report and Order (FCC 10-82; IB Docket No. 95-91) on May 20, 2010, in which the agency accomplished three goals: (1) Adopted technical rules governing the operation of SDARS repeaters that will not constrain their function or deployment but will limit the potential for harmful interference to adjacent Wireless Communications Service (WCS) spectrum users by requiring SDARS licensees to notify WCS licensees prior to the deployment of new or modified SDARS terrestrial repeaters; (2) established a blanket-licensing regime for repeaters up to 12 kilowatts (kW) average equivalent isotropically radiated power (EIRP) to facilitate the flexible deployment of SDARS repeaters while ensuring that such repeater operations comply with the Commission's rules regarding RF safety, antenna marking and lighting, equipment authorization and international agreements; and, (3) established site-by-site licensing regime for repeaters operating above 12 kW (average) EIRP, or otherwise not in compliance with the rules adopted for SDARS terrestrial repeater operations.

The information collection requirements accounted for in this collection are necessary to determine the technical and legal qualifications of SDARS applicants or licensees to operate a station, transfer or assign a license, and to determine whether the authorization is in the public interest, convenience and necessity. Without such information, the Commission could not determine whether to permit respondents to provide SDARS services in the U.S. Therefore, the Commission would be unable to fulfill its statutory responsibilities in accordance with the Communications Act of 1934, as amended.

Bulah P. Wheeler,
Deputy Manager, Office of the Secretary, Office of Managing Director, Federal Communications Commission.

[FR Doc. 2011-1210 Filed 1-20-11; 8:45 am]

BILLING CODE 6712-01-P